DEPARTMENT OF AGRICULTURE

Cooperative State Research, Education, and Extension Service

Notice of Meetings and Request for Comments Regarding Agricultural Risk Management Education Needs

AGENCY: The Cooperative State Research, Education, and Extension Service, USDA.

ACTION: Announcement of meetings.

SUMMARY: Section 133 of Public Law 106-224, the Agricultural Risk Protection Act of 2000, amended the Federal Crop Insurance Act to add section 524, which requires the Cooperative State Research, Education, and Extension Service (CSREES) to establish a competitive grants program for the purpose of educating agricultural producers about the full range of risk management activities. These activities include the use of futures, options, agricultural trade options, crop insurance, cash forward contracting, debt reduction, production diversification, farm resources risk reduction, and other risk management strategies. CSREES will be conducting listening sessions at three separate locations to receive input about the full range of risk management educational needs for agricultural producers. The stakeholder input requirements at 7 U.S.C. 7613(c) do not apply to the first request for proposals under a new program. This request for comments is independent of that provision. CSREES will not solicit additional stakeholder input in formulating the first request for proposals for this program, and thus encourages all interested parties to convey their comments at this time.

Dates and Locations

All comments must be received by CSREES by September 30, 2000. The three listening sessions will be convened from 10:00 a.m. to 3:00 p.m. and will be held on the dates noted below and at the following locations:

• September 20, 2000, McKimmon Center, North Carolina State University, Raleigh, North Carolina 27695-7401, (919) 515-2277, (919) 515-6974 (Fax).

• September 25, 2000, Holiday Inn-Airport, 3300 Vista Avenue, Boise, Idaho 83705, (208) 344-8365, (208) 381-0608 (Fax).

• September 27, 2000, Holiday Inn-Airport, 11832 Plaza Circle, Kansas City, Missouri 64153, (816) 464-2345, (816) 464-2543 (Fax).

All sessions are open to the public.

An agenda and information on local arrangements can be obtained from the Sessions Coordinators (listed as the agency contacts below). Lodging arrangements should be made by contacting the session venues directly.

Comments

Written comments, limited to five pages in 12-point pitch, will be accepted and can either be submitted in person at the time of the session or sent to the Sessions Coordinators at the address listed below. Those wanting to make oral comments, limited to five minutes, should preregister on or before the session date by contacting the Sessions Coordinators. CSREES will make a transcript of the oral comments received at each meeting. To the extent possible, CSREES will provide an oral summary of comments at the beginning of each meeting.

FOR FURTHER INFORMATION CONTACT: Agnes Lamar or Donald A. West, Sessions Coordinators, Cooperative State Research, Education, and Extension Service; U.S. Department of Agriculture; STOP 2210; 1400 Independence Avenue, S.W., Washington, D.C. 20250-2210; Telephone, (202) 401-4318; fax number (202) 401-1706; e-mail address, rmea@reeusda.gov.

Done at Washington, D.C. this 12th day of September, 2000.
Charles W. Laughlin,
Administrator, Cooperative State Research, Education, and Extension Service.

[FR Doc. 00-23908 Filed 9-14-00; 9:10 am]

BILLING CODE 3410-22-P